DEPARTMENT OF THE INTERIOR

Fish and Wildlife Service

[FWS-R4-ES-2017-N178; FXES11130900000C2-189-FF09E32000]

Endangered and Threatened Wildlife and Plants; 5-Year Status Reviews for 35 Southeastern Species

AGENCY: Fish and Wildlife Service, Interior.

ACTION: Notice of initiation of reviews; request for information.

SUMMARY: We, the U.S. Fish and Wildlife Service (Service), are initiating 5-year status reviews of 35 species under the Endangered Species Act of 1973, as amended. A 5-year review is an assessment of the best scientific and commercial data available at the time of the review. We are requesting submission of information that has become available since the last reviews of these species.

DATES: To allow us adequate time to conduct these reviews, we must receive your comments or information on or before July 6, 2018. However, we will continue to accept new information about any listed species at any time.

ADDRESSES: For instructions on how to submit information and review information that we receive on these species, see Request for New Information under SUPPLEMENTARY INFORMATION.

FOR FURTHER INFORMATION CONTACT: For species-specific information, see Request for New Information under SUPPLEMENTARY INFORMATION.

SUPPLEMENTARY INFORMATION:

Why do we conduct 5-year reviews?

Under the Endangered Species Act of 1973, as amended, (ESA 16 U.S.C. 1531 et seq.), we maintain lists of endangered and threatened wildlife and plant species (referred to as the Lists) in title 50 of the Code of Federal Regulations (CFR) at 50 CFR 17.11 (for wildlife) and 17.12 (for plants). Section 4(c)(2)(A) of the ESA requires us to review each listed species' status at least once every 5 years. Our regulations at 50 CFR 424.21 require that we publish a notice in the Federal Register announcing those species under active review. For additional information about 5-year reviews, go to http://www.fws.gov/endangered/what-we-do/recovery-overview.html, scroll down to “Learn More about 5-Year Reviews,” and click on our factsheet.

Species Under Review

This notice announces our active review of 28 species that are currently listed as endangered:

Fish and Wildlife

Ivory-billed woodpecker (Campephilus principalis)

Bermuda petrel (=cahow) (Pterodroma cahow)

Laurel dace (Chrosomus saylori)

Yellowcheek darter (Etheostoma moorei)

Watercress darter (Etheostoma nuchale)

Smoky madtom (Noturus baileyi)

Chucky madtom (Noturus crypticus)

Alabama sturgeon (Scaphirhynchus suttkusi)

Dromedary pearlymussel (Dromus dromas)

Cumberlandian combshell (Epioblasma brevidens)

Cracking pearlymussel (Hemistena lata)

Alabama lampmussel (Lampsilis virescens)

Birdwing pearlymussel (Lemiox rimosus)

Alabama pearlshell (Margaritifera marrianae)

Fat pocketbook (Potamilus capax)

Pale lilliput (Toxolasma cylindrellus)

Slender campeloma (Campeloma decampi)

Armored snail (Pyrgulopsis (=Marstonia) pachyta)

Plants

Arenaria cumberlandensis (Cumberland sandwort)

Astralagus bibullatus (Guthrie's (=Pyne's) ground plum)

Baptisia arachnifera (Hairy rattleweed)

Campanula robinsiae (Brooksville bellflower)

Cyathea dryopteroides (Elfin tree fern)

Harrisia aboriginum (Aboriginal prickly-apple)

Justicia cooleyi (Cooley's water-willow)

Lesquerella perforata (Spring Creek bladderpod)

Nolina brittoniana (Britton's beargrass)

Trillium persistens (Persistent trillium)

This notice announces our active review of 7 species that are currently listed as threatened:

Fish and Wildlife

Eastern indigo snake (Drymarchon corais couperi)

Ringed map turtle (=sawback) (Graptemys oculifera)

Slackwater darter (Etheostoma boschungi)

Yellowfin madtom (Noturus flavipinnis)

Pygmy sculpin (Cottus pygmaeus)

Plants

Macbridea alba (White birds in a nest)

Scutellaria floridana (Florida skullcap)

What information do we consider in our review?

A 5-year review considers the best scientific and commercial data that have become available since the current listing determination or most recent status review of each species, such as:

A. Species biology, including but not limited to population trends, distribution, abundance, demographics, and genetics;

B. Habitat conditions, including but not limited to amount, distribution, and suitability;

C. Conservation measures that have been implemented to benefit the species;

D. Threat status and trends (see the five factors under the heading How Do We Determine Whether A Species Is Endangered or Threatened?); and

E. Other new information, data, or corrections, including but not limited to taxonomic or nomenclatural changes, identification of erroneous information contained in the List, and improved analytical methods.

We request any new information concerning the status of any of these 35 species. Information submitted should be supported by documentation such as maps, bibliographic references, methods used to gather and analyze the data, and/or copies of any pertinent publications, reports, or letters by knowledgeable sources.

We have completed 5-year review documents for the majority of our listed species in the Southeast. In many cases, we will only have to update previous 5-year reviews, but we could possibly conduct a species status assessment (SSA) for some species. An SSA is a compilation of the best available information on the species, as well as its ecological needs based on environmental factors. Next, an SSA describes the current condition of the species' habitat and demographics, and the probable explanations for past and ongoing changes in abundance and distribution within the species' range. Last, an SSA forecasts the species' response to probable future scenarios of environmental conditions and conservation efforts. Overall, an SSA uses the conservation biology principles of resiliency, redundancy, and representation (collectively known as the “3 Rs”) to evaluate the current and future condition of the species. As a result, the SSA characterizes a species' ability to sustain populations in the wild over time based on the best scientific understanding of current and future abundance and distribution within the species' ecological settings.

An SSA is a biological risk assessment to aid decision makers who must use the best available scientific information to make policy decisions under the ESA. The SSA provides decision makers with a scientifically rigorous characterization of a species' status that and the likelihood that the species will sustain populations, along with key uncertainties in that characterization.

Definitions

A. Species means any species or subspecies of fish, wildlife, or plant, and any distinct population segment of any species of vertebrate which interbreeds when mature.

B. Endangered means any species that is in danger of extinction throughout all or a significant portion of its range.

C. Threatened means any species that is likely to become an endangered species within the foreseeable future throughout all or a significant portion of its range.

How do we determine whether a species is endangered or threatened?

Section 4(a)(1) of the ESA requires that we determine whether a species is endangered or threatened based on one or more of the following five factors:

A. The present or threatened destruction, modification, or curtailment of its habitat or range;

B. Overutilization for commercial, recreational, scientific, or educational purposes;

C. Disease or predation;

D. The inadequacy of existing regulatory mechanisms; or

E. Other natural or manmade factors affecting its continued existence.

Request for New Information

To do any of the following, contact the person associated with the species you are interested in below:

A. To get more information on a species;

B. To submit information on a species; or

C. To review information we receive, which will be available for public inspection by appointment, during normal business hours, at the listed addresses.

Fish and Wildlife

• Ivory-billed woodpecker: Amy Trahan, by mail at Louisiana Ecological Services Field Office, U.S. Fish and Wildlife Service, 646 Cajundome Blvd., Suite 400, Lafayette, LA 70506; by fax 337-291-3139, by phone at 337-291-3100, or by email at lafayette@fws.gov.

• Cahow (Bermuda petrel): John Hammond, by mail at the Raleigh Ecological Services Field Office, U.S. Fish and Wildlife Service, 551 Pylon Drive, #F, Raleigh, NC 27606; by fax at 919-856-4556; by phone at 919-856-4520; or by email at raleigh_es@fws.gov.

• Yellowfin madtom, smoky madtom, and laurel dace: Warren Stiles; and Chucky madtom, Cumberlandian combshell, birdwing pearlymussel, cracking pearlymussel, and dromedary pearlymussel: Stephanie Chance, both by mail at the Tennessee Ecological Services Field Office, U.S. Fish and Wildlife Service, 446 Neal Street, Cookeville, TN 38501; by fax at 931-528-7075; by phone at 931-528-6481; or by email at cookeville@fws.gov.

• Yellowcheek darter: Chris Davidson, by mail at Arkansas Ecological Services Field Office, U.S. Fish and Wildlife Service, 110 South Amity Road, Suite 300, Conway, AR 72032; by fax at 501-513-4480; by phone at 501-513-4481; or by email at arkansas-es_recovery@fws.gov.

• Ringed map turtle: Linda Laclaire; fat pocketbook: Paul Hartfield; and slackwater darter, pygmy sculpin, and watercress darter: Daniel Drennen, all three by mail at the Mississippi Ecological Services Field Office, U.S. Fish and Wildlife Service, 6578 Dogwood View Parkway, Jackson, MS 39213; by fax at 601-965-4340; by phone at 601-965-4900; or by email at Mississippi_field_office@fws.gov.

• Alabama sturgeon: Jennifer Grunewald; Alabama pearlshell: Anthony Ford; Alabama lampmussel, pale lilliput, slender campeloma, and armored snail: Evan Collins, all three by mail at Alabama Ecological Services Field Office, U.S. Fish and Wildlife Service, 1208B Main St., Daphne, AL 36526; by fax at 251-441-6222; by phone at 251-441-5184; or by email at Alabama@fws.gov.

• Eastern indigo snake: Michele Elmore, by mail at Georgia Ecological Services Field Office, U.S. Fish and Wildlife Service, P.O. Box 52560, Fort Benning, GA 31995; by fax at 706-544-6419; by phone at 706-544-6428; or by email at georgiaes@fws.gov.

Plants

• Cumberland sandwort, Pyne's ground plum, and Spring Creek bladderpod: Geoff Call, by mail at the Tennessee Ecological Services Field Office, U.S. Fish and Wildlife Service (see contact information above).

• Hairy rattleweed: April Punsulan, by mail at Charleston Ecological Services Field Office, U.S. Fish and Wildlife Service, 176 Croghan Spur Road, Suite 200, Charleston, SC 29412; by fax at 843-727-4218; by phone at 843-727-4707; or by email at charleston_recovery@fws.gov.

• Brooksville bellflower, Cooley's water-willow, and Britton's beargrass: Todd Mecklenborg, by mail at North Florida Ecological Services Field Office, U.S. Fish and Wildlife Service, 7915 Baymeadows Way, Suite 200, Jacksonville, FL 32256; by fax 904-731-3045, by phone at 904-731-3336, or by email at northflorida@fws.gov.

• Elfin tree fern: Angel Colon, by mail at the Caribbean Ecological Services Field Office, U.S. Fish and Wildlife Service, Road 301, Km. 5.1, P.O. Box 491, Boquerón, PR 00622; by fax at 787-851-7440; by phone at 787-851-7297; or by email at caribbean_es@fws.gov.

• Aboriginal prickly-apple: David Bender, by mail at South Florida Ecological Services Field Office, U.S. Fish and Wildlife Service, 1339 20th Street, Vero Beach, FL 32960; by fax 772-562-4288; by phone at 772-562-3909 extension 294; or by email at SFESO_plant_5-year_reviews@fws.gov.

• White birds in a nest and Florida skullcap: Vivian Negron-Ortiz, by mail at the Panama City Ecological Services Field Office, U.S. Fish and Wildlife Service, 1601 Balboa Ave., Panama City, FL 32405; by fax at 850-769-2177; by phone at 850-769-0552; or by email at panamacity@fws.gov.

• Persistent trillium: David Caldwell, by mail at Georgia Ecological Services Field Office, U.S. Fish and Wildlife Service (see contact information above).

Public Availability of Comments

Before including your address, phone number, email address, or other personal identifying information in your comment, you should be aware that the entire comment—including your personal identifying information—may be made publicly available at any time. While you can ask us in your comment to withhold your personal identifying information from public review, we cannot guarantee that we will be able to do so.

Availability of Status Reviews

All completed status reviews under the ESA are available via the Service website: https://www.fws.gov/endangered/species/us-species.html.

Authority

We publish this document under the authority of the Endangered Species Act (16 U.S.C. 1531 et seq.).

Dated: March 20, 2018.
Mike Oetker,
Acting Regional Director, Southeast Region.

[FR Doc. 2018-09604 Filed 5-4-18; 8:45 am]

BILLING CODE 4333-15-P